DEPARTMENT OF TRANSPORTATION

Federal Aviation Administration

14 CFR Part 39

[Docket No. FAA-2013-0629; Directorate Identifier 2012-NM-214-AD]

RIN 2120-AA64

Airworthiness Directives; Fokker Services B.V. Airplanes

AGENCY: Federal Aviation Administration (FAA), Department of Transportation (DOT).

ACTION: Proposed rule; withdrawal.

SUMMARY: The FAA withdraws a notice of proposed rulemaking (NPRM) that proposed a new airworthiness directive (AD), which applies to certain Fokker Services B.V. Model F.28 Mark 0070 and 0100 airplanes. The NPRM would have required installing fuses in the maximum level (Max Level) sensor wiring, and revising the airplane maintenance program by incorporating critical design configuration control limitations. Since the NPRM was issued, we have received new data indicating that the modification proposed in the NPRM interfered with the normal operation of the Max Level shutoff system. Accordingly, the NPRM is withdrawn.

DATES: As of March 5, 2014, the proposed rule, which was published in the Federal Register on July 31, 2013 (78 FR 46298), is withdrawn.

ADDRESSES: You may examine the AD docket on the Internet at http://www.regulations.gov by searching for and locating Docket No. FAA-2013-0629; or in person at the Docket Management Facility between 9 a.m. and 5 p.m., Monday through Friday, except Federal holidays. The AD docket contains this AD action, the NPRM (78 FR 46298, July 31, 2013), the regulatory evaluation, any comments received, and other information. The address for the Docket Office (telephone 800-647-5527) is the Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We proposed to amend part 39 of the Federal Aviation Regulations (14 CFR part 39) with a notice of proposed rulemaking (NPRM) for a new AD for certain Fokker Services B.V. Model F.28 Mark 0070 and 0100 airplanes. The NPRM published in the Federal Register on July 31, 2013 (78 FR 46298). The NPRM resulted from a design review, which revealed that, under certain failure conditions of the Max Level sensor wiring, a short circuit may develop that causes a hot spot on the wiring conduit, or puncturing of the wiring conduit wall in the center wing fuel tank. The NPRM would have required installing fuses in the Max Level sensor wiring, and revising the airplane maintenance program by incorporating critical design configuration control limitations. The proposed actions were intended to prevent an ignition source in the center wing fuel tank vapor space, which could result in a fuel tank explosion and consequent loss of the airplane.

Actions Since NPRM (78 FR 46298, July 31, 2013) Was Issued

Since we issued the NPRM (78 FR 46298, July 31, 2013), we received a report that after an operator installed the fuses in the wiring of the Max Level sensors of the center fuel tank, as specified in Fokker Service Bulletin SBF100-28-073, dated August 10, 2012, the Max Level shut-off system did not operate correctly. After initial refueling shut-off, refueling restarted, leading to fuel spilling onto the platform. The manufacturer is developing a modification to address the unsafe condition that does not interfere with the normal operation of the Max Level shutoff system. We might issue AD rulemaking once the manufacturer has issued service information that includes the modification.

FAA's Conclusions

Upon further consideration, we have determined that the NPRM (78 FR 46298, July 31, 2013) does not adequately address the identified unsafe condition. Accordingly, the NPRM is withdrawn.

Withdrawal of the NPRM (78 FR 46298, July 31, 2013) does not preclude the FAA from issuing another related action or commit the FAA to any course of action in the future.

Regulatory Impact

Since this action only withdraws an NPRM (78 FR 46298, July 31, 2013), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2013-0629, Directorate Identifier 2012-NM-214-AD, which was published in the Federal Register on July 31, 2013 (78 FR 46298, July 31, 2013).

Issued in Renton, Washington, on February 19, 2014.
Jeffrey E. Duven,
Manager, Transport Airplane Directorate, Aircraft Certification Service.

[FR Doc. 2014-04890 Filed 3-4-14; 8:45 am]

BILLING CODE 4910-13-P